DEPARTMENT OF COMMERCE.

International Trade Administration

[A-427-801]

Ball Bearings and Parts Thereof from France: Notice of Court Decision Not in Harmony

AGENCY: Import Administration, International Trade Administration, Department of Commerce

SUMMARY: On September 1, 2006, the United States Court of International Trade affirmed in part and struck in part the Department of Commerce's redetermination on remand of the final results of the administrative review of the antidumping duty order on ball bearings and parts thereof from France. See SKF USA Inc., SKF France S.A., and Sarma v. United States, Court No. 03-00490, slip op. 06-133 (CIT 2006). The Department is now issuing this notice of court decision not in harmony with the Department's determination.

EFFECTIVE DATE: September 22, 2006.

FOR FURTHER INFORMATION CONTACT: Yang Jin Chun or Richard Rimlinger, AD/CVD Operations, Office 5, Import Administration, U.S. Department of Commerce, 14th Street and Constitution Avenue, NW, Washington, DC 20230; telephone: (202) 482-5760 or (202) 482-4477, respectively.

SUPPLEMENTARY INFORMATION:

Background

On June 16, 2003, the Department of Commerce (the Department) published the final results of the administrative review of the antidumping duty order on ball bearings and parts thereof from France for the period May 1, 2001, through April 30, 2002. See Ball Bearings and Parts Thereof from France, et al.; Final Results of Antidumping Duty Administrative Reviews, Rescission of Administrative Reviews in Part, and Determination Not to Revoke Order in Part, 68 FR 35623 (June 16, 2003). SKF France S.A., SKF USA Inc., and Sarma (hereafter “SKF”) filed a lawsuit challenging the final results. On August 24, 2005, the United States Court of International Trade (CIT) ordered the Department to re-evaluate and re-examine its decision by providing evidentiary support for using partial adverse facts available unrelated to SKF's alleged failure to offer evidence at verification or, in the alternative, to recalculate SKF's margin using SKF's own information. See SKF USA Inc., SKF France S.A., and Sarma v. United States, 391 F. Supp. 2d 1327, 1337 (CIT 2005). In accordance with the CIT's remand order in SKF, 391 F. Supp. 2d at 1337, the Department filed its redetermination on remand of the final results (remand results) on December 21, 2005. On September 1, 2006, the CIT affirmed in part and struck in part the Department's remand results. The stricken parts of the remand results do not affect the weighted-average margin the Department recalculated for SKF in the remand results. See SKF, slip op. 06-133.

Decision Not in Harmony

The CIT ruled that the Department's decision to use partial facts available with respect to SKF's margin calculation was not supported by substantial evidence on the record. The changes to our calculations with respect to SKF resulted in a change in the weighted-average margin for ball bearings and parts thereof from 6.70 percent to 6.19 percent for the period of review. Accordingly, absent an appeal or, if appealed, upon a “conclusive” decision by the CIT, we will amend our final results of this review to reflect the recalculation of the margin for SKF.

Suspension of Liquidation

The United States Court of Appeals for Federal Circuit (CAFC) held that the Department must publish notice of a decision of the CIT or the CAFC which is not in harmony with the Department's determination. See The Timken Company v. United States, 893 F.2d 337, 341 (Fed. Cir. 1990). Publication of this notice fulfills that obligation. The CAFC also held that, in such a case, the Department must suspend liquidation until there is a “conclusive” decision in the action. Id. Therefore, the Department must suspend liquidation pending the expiration of the period to appeal the CIT's September 1, 2006, decision or pending a final decision of the CAFC if that decision is appealed.

Because entries of ball bearings and parts thereof from France produced by, exported to, or imported into the United States by SKF are currently being suspended pursuant to the court's injunction order in effect, the Department does not need to order U.S. Customs and Border Protection to suspend liquidation of affected entries. The Department will not order the lifting of the suspension of liquidation on entries of ball bearings and parts thereof made during the review period before a court decision in this lawsuit becomes final and conclusive.

We are issuing and publishing this notice in accordance with section 516A(c)(1) of the Tariff Act of 1930, as amended.

Dated: September 12, 2006.
Barbara E. Tillman,
Acting Assistant Secretary for Import Administration.

[FR Doc. 06-8076 Filed 9-21-06; 8:45 am]

BILLING CODE 3510-DR-S